DEPARTMENT OF AGRICULTURE

Rural Business-Cooperative Service

Notice of Change to Announcement of Requirements and Registration for the U.S. Tall Wood Building Prize Competition

AGENCY: Rural Business-Cooperative Service, USDA.

ACTION: Notice of change to Announcement of Requirements and Registration for the U.S. Tall Wood Building Prize Competition.

SUMMARY: The U.S. Department of Agriculture (USDA) in a cooperative partnership with the Softwood Lumber Board and the Binational Softwood Lumber Council is conducting a prize competition funding initiative to support the demonstration of tall wood buildings in the United States. The U.S. Tall Wood Building Prize Competition (the “Competition”) is being conducted to showcase the architectural and commercial viability of advanced wood products in tall building construction in order to support employment opportunities in rural communities, maintain the health and resiliency of the Nation's forests, and advance sustainability in the built environment.

On October 10, 2014, USDA published official competition rules in the Federal Register in Notice 79 FR 61275. The competition rules note that the Prize Purse is a combined pool from the Competition Partners of $2 million and that the Prize Purse may increase, but will not decrease. The rules also state that any increases in the Prize Purse will be posted on the Competition Web site (www.tallwoodbuildingcompetition.org) and published in the Federal Register. The Softwood Lumber Board has committed an additional $1 million to support the competition. By way of this notice, USDA is informing the public that the combined competition prize purse is now $3 million in accordance with the competition's official rules.

The Prize Purse will be used to fund one or more awards; the number of awards made will depend on the estimated amount of Eligible Expenses proposed by the winning Project Proponent Team(s). Award(s) will be made to the winning Project Proponent Team(s) to cover incremental costs of transitioning their building from a traditional structure to a wood structure, i.e., those costs incurred only because of the Project Proponent Team's innovative use of wood products in the demonstration structure. Additional details may be found in the original Federal Register Notice.

Authority: 15 U.S.C. 3719.

Dated: August 7, 2015.
Lillian Salerno,
Administrator, Rural Business-Cooperative Service.

[FR Doc. 2015-19820 Filed 8-11-15; 8:45 am]

BILLING CODE 3410-XY-P